DEPARTMENT OF TRANSPORTATION

Federal Aviation Administration

Notice of Intent To Rule on Application 03-08-C-00-CRW To Impose and Use the Revenue From a Passenger Facility Charge (PFC) at Yeager Airport, Charleston, WV

AGENCY: Federal Aviation Administration (FAA), DOT.

ACTION: Notice of intent to rule on application.

SUMMARY: The FAA proposes to rule and invites public comment on the application to impose and use the revenue from a PFC at Yeager Airport under the provisions of the Aviation Safety and Capacity Expansion Act of 1990 (Title IX of the Omnibus Budget Reconciliation Act of 1990) (Pub. L. 101-508) and Part 158 of the Federal Aviation Regulations (14 CFR Part 158).

DATES: Comments must be received on or before January 6, 2003.

ADDRESSES: Comments on this application may be mailed or delivered in triplicate to the FAA at the following address: Beckley Airports Field Office, 176 Airport Circle, Room 101, Beaver, West Virginia 25813.

In addition, one copy of any comments submitted to the FAA must be mailed or delivered to Mr. Richard Atkinson, Director of Aviation of the Central West Virginia Regional Airport Authority at the following address: 100 Airport Road, Suite 175, Charleston, West Virginia 25311-1080.

Air carriers and foreign air carriers may submit copies of written comments previously provided to the Central West Virginia Regional Airport Authority under section 158.23 of Part 158.

FOR FURTHER INFORMATION CONTACT: Mr. Larry F. Clark, Manager, Airports Field Office, 176 Airport Circle, Room 101, Beaver, West Virginia 25813, (304) 252-6216. The application may be reviewed in person at this same location.

SUPPLEMENTARY INFORMATION: The FAA proposes to rule and invites public comment on the application to impose and use the revenue from a PFC at Yeager Airport under the provisions of the Aviation Safety and Capacity Expansion Act of 1990 (Title IX of the Omnibus Budget Reconciliation Act of 1990) (Pub. L. 101-508) and part 158 of the Federal Aviation Regulations (14 CFR part 158).

On November 13, 2002, the FAA determined that the application to impose and use the revenue from a PFC submitted by Central West Virginia Regional Airport Authority was substantially complete within the requirements of § 158.25 of part 158. The FAA will approve or disapprove the application, in whole or in part, no later than March 6, 2003.

The following is a brief overview of the application.

PFC Application No.: 03-08-C-00-CRW.

Level of the proposed PFC: $4.50

Proposed charge effective date: April 1, 2003

Proposed charge expiration date: February 1, 2006

Total estimated PFC revenue: $3,134,120

Brief description of proposed projects(s):

—Runway 5/23 Engineering Study

—Obstructional Removal

—Taxiway B Drain Repair

—Strengthen Taxiway B, B1 and General Aviation Apron

—Acquire Snow Equipment (Radio/Friction Meter)

—Acquire Snow Removal Equipment (Enloader)

—Acquire Security Vehicle

—Rehabilitate Airport Lighting (Runway 5/23, Runway 15/33; Taxiways A, B & C)

—Rehabilitate Runway 5/23

—Acquire Snow Removal Equipment (Grader)

—Construct Snow Equipment Storage Building

—Acquire Airline Baggage Lift System

—Install Security Paging System

—Conduct Wildlife Study

—Runway 5 Safety Area Improvement

—Install Apron Signs

—Rehabilitate Runway 15/33

—Replace Lighting Regulators

—Repair Runway 5/23

—Upgrade Runway Scan System

Class or classes of air carriers which the public agency has requested not be required to collect PFCs:

—Under FAR part 135—Charter Operators for hire to the general public

—Under FAR part 121—Charter Operators for hire to the general public

—Non-signatory and non-scheduled Air Carriers

Any person may inspect the application in person at the FAA office listed above under FOR FURTHER INFORMATION CONTACT and at the FAA regional airports office located at: 1 Aviation Plaza, Airports Division, AEA-610, Jamaica, New York 11434.

In addition, any person may, upon request, inspect the application, notice and other documents germane to the application in person at the Central West Virginia Regional Airport Authority.

Issued in Beckley, West Virginia on November 14, 2002.
Larry F. Clark,
Manager, Beckley AFO, Eastern Region.

[FR Doc. 02-30850 Filed 12-4-02; 8:45 am]

BILLING CODE 4910-13-M